DEPARTMENT OF LABOR

Employment and Training Administration

[TA-W-61,347; TA-W-61,347A]

Wellman, Incorporated, Administrative Office, Fort Mill, SC, Including Employees of Wellman, Incorporated, Administrative Office, Fort Mill, SC, Working Out of New York, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility To Apply for Worker Adjustment Assistance and Alternative Trade Adjustment Assistance on May 4, 2007, applicable to workers of Wellman, Incorporated, Administrative Offices, Fort Mill, South Carolina. The notice was published in the Federal Register on May 17, 2007 (72 FR 27853).

At the request of the State agency, the Department reviewed the certification for workers of the subject firm. The workers are engaged in providing technical and administrative support services for the firm's production of polyester and nylon fibers.

New information shows that worker separations have occurred involving employees (Mr. Michael Bermish and Ms. Gisela Katz) of Wellman, Incorporated, Administrative Offices, Fort Mill, South Carolina working out of New York, New York.

Based on this finding, the Department is amending the certification to include employees of the Fort Mill, South Carolina location of the subject firm working out of New York, New York.

The intent of the Department's certification is to include all workers of Wellman, Incorporated, Administrative Offices, Fort Mill, South Carolina, who qualify as secondarily trade affected workers.

The amended notice applicable to TA-W-61,347 is hereby issued as follows:

All workers of Wellman, Incorporated, Administrative Offices, Fort Mill, South Carolina (TA-W-61,347), including employees of Wellman, Incorporated, Administrative Offices, Fort Mill, South Carolina, working out of New York, New York (TA-W-61,347A), who became totally or partially separated from employment on or after April 11, 2006, through May 4, 2009, are eligible to apply for adjustment assistance under Section 223 of the Trade Act of 1974, and are also eligible to apply for alternative trade adjustment assistance under Section 246 of the Trade Act of 1974.

Signed at Washington, DC, this 12th day of January 2009.
Linda G. Poole,
Certifying Officer, Division of Trade Adjustment Assistance.

[FR Doc. E9-1486 Filed 1-23-09; 8:45 am]

BILLING CODE 4510-FN-P